OFFICE OF THE UNITED STATES TRADE REPRESENTATIVE

Andean Trade Preference Act (ATPA), as Amended: Notice Regarding the 2003 Annual Review

AGENCY: Office of the United States Trade Representative.

ACTION: Notice.

SUMMARY: The Office of the United States Trade Representative (USTR) received petitions in September 2003 to review certain practices in certain beneficiary developing countries to determine whether such countries are in compliance with the ATPA eligibility criteria. This notice specifies the results of the preliminary review of those petitions.

FOR FURTHER INFORMATION CONTACT: Bennett M. Harman, Deputy Assistant U.S. Trade Representative for Latin America, at (202) 395-9446.

SUPPLEMENTARY INFORMATION: The ATPA (19 U.S.C. 3201 et seq.), as renewed and amended by the Andean Trade Promotion and Drug Eradication Act of 2002 (ATPDEA) in the Trade Act of 2002 (Pub. L. 107-210), provides trade benefits for eligible Andean countries. Pursuant to section 3103(d) of the ATPDEA, USTR promulgated regulations (15 CFR part 2016) (68 FR 43922) regarding the review of eligibility of countries for the benefits of the ATPA, as amended.

In a Federal Register notice dated August 14, 2003, USTR initiated the 2003 ATPA Annual Review and announced a deadline of September 15, 2003 for the filing of petitions (68 FR 48657). Several of these petitions requested the review of certain practices in certain beneficiary developing countries regarding compliance with the eligibility criteria set forth in sections 203(c) and (d) and section 204(b)(6)(B) of the ATPA, as amended (19 U.S.C. 3203 (c) and (d); 19 U.S.C. 3203(b)(6)(B)).

In a Federal Register notice dated November 13, 2003, USTR published a list of the responsive petitions filed pursuant to the announcement of the annual review. The Trade Policy Staff Committee (TPSC) has conducted a preliminary review of these petitions. 15 CFR 2016.2(b) provides for announcement of the results of the preliminary review on or about December 1. 15 CFR 2016.2(b) also provides for modification of the schedule if specified by Federal Register notice. In a Federal Register notice dated December 30, 2003, USTR modified the schedule for this review, specifying that the results would be announced on or about March 31, 2004. In a Federal Register notice dated April 5, 2004, USTR modified the schedule for this review, specifying that the results would be announced on or about May 15, 2004.

Following is the status of the responsive petitions filed pursuant to the announcement of the annual review. The TPSC has determined that certain of the petitions do not require action and terminates their review. These include: Nortel Networks—Colombia, PhRMA—Peru, Big 3 Marine—Peru, Duke Energy—Ecuador, and PhRMA—Ecuador.

The TPSC has decided to modify the date of the announcement of the results of preliminary review for the following petitions: Engelhard—Peru, Princeton Dover—Peru, LeTourneau—Peru, Duke Energy—Peru, AFL-CIO—Ecuador, Human Rights Watch—Ecuador, and US/LEAP—Ecuador. USTR will announce the results of the preliminary review of these petitions at the same time it publishes the list of responsive petitions filed pursuant to the 2004 Annual ATPA Review.

Bennett M. Harman,
Deputy Assistant U.S. Trade Representative for Latin America.

[FR Doc. 04-16479 Filed 7-20-04; 8:45 am]

BILLING CODE 3190-W3-P